DEPARTMENT OF JUSTICE

Antitrust Division

Notice Pursuant to the National Cooperative Research and Production Act of 1993—Portland Cement Association

Notice is hereby given that, on July 25, 2001, pursuant to Section 6(a) of the National Cooperative Research and Production Act of 1993, 15 U.S.C. 4301 et seq. (“Act”), Portland Cement Association (“PCA”) has filed written notifications simultaneously with the Attorney General and the Federal Trade Commission disclosing changes in its membership status. The notifications were filed for the purpose of extending the Act's provisions limiting the recovery of antitrust plaintiffs to actual damages under specified circumstances. Specifically, Slag Cement Association, Wayne, PA has been added as an Affiliate Member of this venture; Dacota Cement, Rapid City, SD is now known as GCC Dacotah; and Holderbank Engineering Canada Ltd., Mississauga, Ontario, CANADA is now known as Holcim Group Support (Canada) Ltd. Also, Loesche GmbH, Dusseldorf, GERMANY has transferred its membership to its subsidiary, Loesche America, Inc., Miami, FL.

No other changes have been made in either the membership or planned activity of the group research project. Membership in this group research project remains open, and PCA intend to file additional written notification disclosing all changes in membership.

On January 7, 1985, PCA filed its original notification pursuant to Section 6(a) of the Act. The Department of Justice published a notice in the Federal Register pursuant to Section 6(b) of the Act on February 5, 1985 (50 FR 5015).

The last notification was filed with the Department on April 18, 2001. A notice was published in the Federal Register pursuant to Section 6(b) of the Act on May 23, 2001 (66 FR 28548).

Constance K. Robinson,
Director of Operations, Antitrust Division.

[FR Doc. 01-23953 Filed 9-24-01; 8:45 am]

BILLING CODE 4410-11-M